DEPARTMENT OF TRANSPORTATION

Federal Aviation Administration

14 CFR Part 97

[Docket No. 31135; Amdt. No. 3748]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective June 20, 2017. The compliance date for each SIAP, associated Takeoff Minimums, and ODP is specified in the amendatory provisions.

The incorporation by reference of certain publications listed in the regulations is approved by the Director of the Federal Register as of June 20, 2017.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866;(2) is not a “significant rule” under DOT regulatory Policies and Procedures (44 FR 11034; February 26, 1979) ; and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on May 5, 2017.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
22-Jun-17 | TX | Mineola | Mineola Wisener Field | 7/0020 | 4/13/17 | Takeoff Minimums and Obstacle DP, Orig
22-Jun-17 | NC | Mount Olive | Mount Olive Muni | 7/0025 | 4/13/17 | RNAV (GPS) RWY 5, Orig-A
22-Jun-17 | PA | Connellsville | Joseph A Hardy Connellsville | 7/0029 | 4/13/17 | LOC RWY 5, Amdt 4
22-Jun-17 | TN | Dayton | Mark Anton | 7/0663 | 4/11/17 | RNAV (GPS) RWY 3, Orig
22-Jun-17 | TN | Dayton | Mark Anton | 7/0664 | 4/11/17 | RNAV (GPS) RWY 21, Amdt 1
22-Jun-17 | SC | Rock Hill | Rock Hill/York Co/Bryant Field | 7/0681 | 4/11/17 | RNAV (GPS) RWY 20, Amdt 1
22-Jun-17 | TN | Tazewell | New Tazewell Muni | 7/0697 | 4/11/17 | RNAV (GPS) RWY 7, Orig
22-Jun-17 | NJ | Princeton/Rocky Hill | Princeton | 7/0698 | 4/13/17 | RNAV (GPS) RWY 10, Amdt 1A
22-Jun-17 | NC | Williamston | Martin County | 7/0966 | 4/13/17 | RNAV (GPS) RWY 21, Amdt 1
22-Jun-17 | GA | Monroe | Monroe-Walton County | 7/0969 | 4/13/17 | RNAV (GPS) RWY 3, Amdt 2A
22-Jun-17 | NC | Mooresville | Lake Norman Airpark | 7/0992 | 4/11/17 | RNAV (GPS) RWY 14, Amdt 1
22-Jun-17 | GA | Cornelia | Habersham County | 7/0993 | 4/13/17 | RNAV (GPS) RWY 6, Amdt 1
22-Jun-17 | GA | Cornelia | Habersham County | 7/0994 | 4/13/17 | RNAV (GPS) RWY 24, Amdt 1
22-Jun-17 | GA | Cornelia | Habersham County | 7/0995 | 4/13/17 | VOR/DME RWY 6, Amdt 6A
22-Jun-17 | VA | Blackstone | Allen C Perkinson Blackstone AAF | 7/1009 | 4/13/17 | RNAV (GPS) RWY 4, Amdt 1
22-Jun-17 | VA | Blackstone | Allen C Perkinson Blackstone AAF | 7/1010 | 4/13/17 | RNAV (GPS) RWY 22, Amdt 1
22-Jun-17 | MS | Cleveland | Cleveland Muni | 7/1011 | 4/11/17 | RNAV (GPS) RWY 18, Amdt 1
22-Jun-17 | MS | Cleveland | Cleveland Muni | 7/1012 | 4/11/17 | RNAV (GPS) RWY 36, Orig-B
22-Jun-17 | NC | Morganton | Foothills Regional | 7/1013 | 4/13/17 | LOC RWY 3, Amdt 2
22-Jun-17 | NC | Morganton | Foothills Regional | 7/1014 | 4/13/17 | RNAV (GPS) RWY 21, Amdt 1
22-Jun-17 | NC | Greensboro | Piedmont Triad Intl | 7/1015 | 4/13/17 | RNAV (GPS) RWY 32, Amdt 3
22-Jun-17 | CQ | Rota Island | Benjamin Taisacan Manglona Intl | 7/1016 | 4/11/17 | NDB RWY 9, Amdt 4
22-Jun-17 | RI | Pawtucket | North Central State | 7/1018 | 4/13/17 | LOC RWY 5, Amdt 7A
22-Jun-17 | RI | Pawtucket | North Central State | 7/1019 | 4/13/17 | RNAV (GPS) RWY 5, Amdt 1
22-Jun-17 | RI | Pawtucket | North Central State | 7/1020 | 4/13/17 | RNAV (GPS) RWY 23, Amdt 1
22-Jun-17 | NY | Niagara Falls | Niagara Falls Intl | 7/1198 | 4/28/17 | RNAV (GPS) Z RWY 24, Orig
22-Jun-17 | SC | Union | Union County, Troy Shelton Field | 7/1436 | 4/11/17 | RNAV (GPS) RWY 5, Orig-A
22-Jun-17 | NC | Star | Montgomery County | 7/1457 | 4/11/17 | RNAV (GPS) RWY 3, Orig
22-Jun-17 | NC | Star | Montgomery County | 7/1458 | 4/11/17 | RNAV (GPS) RWY 21, Orig
22-Jun-17 | PA | Altoona | Altoona-Blair County | 7/1473 | 4/13/17 | ILS OR LOC RWY 21, Amdt 8A
22-Jun-17 | PA | Altoona | Altoona-Blair County | 7/1474 | 4/13/17 | RNAV (GPS) RWY 21, Amdt 1B
22-Jun-17 | NY | Millbrook | Sky Acres | 7/1489 | 4/13/17 | RNAV (GPS) RWY 17, Amdt 2
22-Jun-17 | NC | Chapel Hill | Horace Williams | 7/2521 | 4/26/17 | RNAV (GPS) RWY 9, Orig-A
22-Jun-17 | NC | Chapel Hill | Horace Williams | 7/2522 | 4/26/17 | RNAV (GPS) RWY 27, Orig-A
22-Jun-17 | NC | Chapel Hill | Horace Williams | 7/2523 | 4/26/17 | VOR/DME RWY 27, Amdt 1B
22-Jun-17 | NJ | Pittstown | Sky Manor | 7/3434 | 4/13/17 | VOR RWY 7, Amdt 3
22-Jun-17 | NY | Ogdensburg | Ogdensburg Intl | 7/3574 | 2/21/17 | RNAV (GPS) RWY 9, Orig
22-Jun-17 | NY | Niagara Falls | Niagara Falls Intl | 7/3770 | 4/28/17 | ILS Y OR LOC RWY 28R, Amdt 23
22-Jun-17 | NY | Niagara Falls | Niagara Falls Intl | 7/3771 | 4/28/17 | ILS Z OR LOC/DME RWY 28R, Amdt 4
22-Jun-17 | NY | Niagara Falls | Niagara Falls Intl | 7/3772 | 4/28/17 | NDB RWY 28R, Amdt 17
22-Jun-17 | NY | Niagara Falls | Niagara Falls Intl | 7/3773 | 4/28/17 | RNAV (GPS) RWY 28R, Orig
22-Jun-17 | NY | Niagara Falls | Niagara Falls Intl | 7/3774 | 4/28/17 | TACAN RWY 28R, Orig
22-Jun-17 | NY | Niagara Falls | Niagara Falls Intl | 7/3775 | 4/28/17 | RNAV (GPS) RWY 10L, Orig
22-Jun-17 | NY | Niagara Falls | Niagara Falls Intl | 7/3776 | 4/28/17 | RNAV (GPS) RWY 6, Orig
22-Jun-17 | NY | Niagara Falls | Niagara Falls Intl | 7/3777 | 4/28/17 | RNAV (GPS) Y RWY 24, Orig
22-Jun-17 | NC | New Bern | Coastal Carolina Regional | 7/3780 | 4/26/17 | VOR RWY 22, Amdt 3A
22-Jun-17 | NC | New Bern | Coastal Carolina Regional | 7/3781 | 4/26/17 | RNAV (GPS) RWY 22, Amdt 1
22-Jun-17 | MD | Hagerstown | Hagerstown Rgnl-Richard A Henson Fld | 7/3782 | 4/28/17 | ILS OR LOC RWY 9, Amdt 1
22-Jun-17 | MD | Hagerstown | Hagerstown Rgnl-Richard A Henson Fld | 7/3783 | 4/28/17 | ILS OR LOC RWY 27, Amdt 11
22-Jun-17 | MD | Hagerstown | Hagerstown Rgnl-Richard A Henson Fld | 7/3784 | 4/28/17 | RNAV (GPS) RWY 27, Amdt 1
22-Jun-17 | MD | Hagerstown | Hagerstown Rgnl-Richard A Henson Fld | 7/3785 | 4/28/17 | RNAV (GPS) RWY 9, Amdt 1
22-Jun-17 | MD | Hagerstown | Hagerstown Rgnl-Richard A Henson Fld | 7/3786 | 4/28/17 | COPTER RNAV (GPS) RWY 9, Orig
22-Jun-17 | MD | Hagerstown | Hagerstown Rgnl-Richard A Henson Fld | 7/3787 | 4/28/17 | COPTER RNAV (GPS) RWY 27, Orig
22-Jun-17 | NC | Rocky Mount | Rocky Mount-Wilson Rgnl | 7/3788 | 4/26/17 | RNAV (GPS) RWY 4, Amdt 2
22-Jun-17 | NC | Rocky Mount | Rocky Mount-Wilson Rgnl | 7/3789 | 4/26/17 | RNAV (GPS) RWY 22, Amdt 2
22-Jun-17 | FL | Titusville | Space Coast Rgnl | 7/3805 | 4/11/17 | ILS OR LOC RWY 36, Amdt 12A
22-Jun-17 | NC | Siler City | Siler City Muni | 7/3807 | 4/26/17 | RNAV (GPS) RWY 4, Orig
22-Jun-17 | TN | Bolivar | William L Whitehurst Field | 7/3808 | 4/11/17 | RNAV (GPS) RWY 1, Amdt 1
22-Jun-17 | TN | Bolivar | William L Whitehurst Field | 7/3809 | 4/11/17 | RNAV (GPS) RWY 19, Amdt 1
22-Jun-17 | NC | Siler City | Siler City Muni | 7/3810 | 4/26/17 | RNAV (GPS) RWY 22, Amdt 1
22-Jun-17 | NY | Middletown | Randall | 7/3811 | 4/26/17 | RNAV (GPS) RWY 26, Amdt 1
22-Jun-17 | NY | Middletown | Randall | 7/3812 | 4/26/17 | RNAV (GPS) RWY 8, Amdt 1
22-Jun-17 | NY | Middletown | Randall | 7/3813 | 4/26/17 | VOR RWY 8, Amdt 7
22-Jun-17 | NY | Sidney | Sidney Muni | 7/3815 | 4/26/17 | RNAV (GPS) RWY 7, Orig-C
22-Jun-17 | NY | Sidney | Sidney Muni | 7/3816 | 4/26/17 | RNAV (GPS) RWY 25, Amdt 1
22-Jun-17 | NJ | Manville | Central Jersey Rgnl | 7/3817 | 4/26/17 | RNAV (GPS) RWY 7, Amdt 1A
22-Jun-17 | NJ | Manville | Central Jersey Rgnl | 7/3818 | 4/26/17 | RNAV (GPS) RWY 25, Amdt 1C
22-Jun-17 | NC | Beaufort | Michael J Smith Field | 7/3822 | 4/26/17 | RNAV (GPS) RWY 14, Amdt 1
22-Jun-17 | NC | Beaufort | Michael J Smith Field | 7/3823 | 4/26/17 | RNAV (GPS) RWY 21, Amdt 2
22-Jun-17 | NC | Beaufort | Michael J Smith Field | 7/3824 | 4/26/17 | RNAV (GPS) RWY 3, Amdt 2
22-Jun-17 | NC | Beaufort | Michael J Smith Field | 7/3825 | 4/26/17 | RNAV (GPS) RWY 32, Amdt 1
22-Jun-17 | NC | Beaufort | Michael J Smith Field | 7/3826 | 4/26/17 | RNAV (GPS) RWY 8, Amdt 2
22-Jun-17 | NY | Binghamton | Greater Binghamton/Edwin A Link Field | 7/3828 | 4/26/17 | RNAV (GPS) RWY 10, Orig
22-Jun-17 | NY | Binghamton | Greater Binghamton/Edwin A Link Field | 7/3829 | 4/28/17 | RNAV (GPS) RWY 28, Amdt 2
22-Jun-17 | VA | Brookneal | Brookneal/Campbell County | 7/3832 | 4/13/17 | RNAV (GPS) RWY 6, Orig-A
22-Jun-17 | VA | Brookneal | Brookneal/Campbell County | 7/3833 | 4/13/17 | RNAV (GPS) RWY 24, Amdt 1
22-Jun-17 | SC | North Myrtle Beach | Grand Strand | 7/3837 | 4/26/17 | RNAV (GPS) RWY 23, Amdt 1
22-Jun-17 | SC | North Myrtle Beach | Grand Strand | 7/3840 | 4/26/17 | ILS OR LOC/DME RWY 23, Amdt 12
22-Jun-17 | PA | Pittsburgh | Pittsburgh Intl | 7/3882 | 4/28/17 | ILS OR LOC RWY 28R, ILS RWY 28R (CAT II), Amdt 9A
22-Jun-17 | NC | Hickory | Hickory Rgnl | 7/3913 | 4/13/17 | RNAV (GPS) RWY 1, Amdt 1
22-Jun-17 | NC | Hickory | Hickory Rgnl | 7/3914 | 4/13/17 | RNAV (GPS) RWY 6, Amdt 1
22-Jun-17 | NC | Fayetteville | Fayetteville Rgnl/Grannis Field | 7/4178 | 4/13/17 | ILS OR LOC/DME RWY 4, Amdt 17
22-Jun-17 | NC | Clinton | Clinton-Sampson County | 7/4368 | 4/26/17 | RNAV (GPS) RWY 6, Amdt 2A
22-Jun-17 | NC | Clinton | Clinton-Sampson County | 7/4369 | 4/26/17 | RNAV (GPS) Y RWY 24, Amdt 1A
22-Jun-17 | NC | Clinton | Clinton-Sampson County | 7/4370 | 4/26/17 | RNAV (GPS) Z RWY 24, Orig-A
22-Jun-17 | NC | Clinton | Clinton-Sampson County | 7/4371 | 4/26/17 | LOC RWY 6, Amdt 3A
22-Jun-17 | NC | Pinehurst/Southern Pines | Moore County | 7/4749 | 4/26/17 | RNAV (GPS) RWY 23, Amdt 2
22-Jun-17 | NC | Pinehurst/Southern Pines | Moore County | 7/4769 | 4/26/17 | RNAV (GPS) RWY 5, Amdt 1
22-Jun-17 | NC | Pinehurst/Southern Pines | Moore County | 7/4783 | 4/26/17 | ILS Y OR LOC/DME Y RWY 5, Orig-A
22-Jun-17 | NC | Pinehurst/Southern Pines | Moore County | 7/4785 | 4/26/17 | ILS Z OR LOC/DME Z RWY 5, Amdt 2A
22-Jun-17 | NC | Rutherfordton | Rutherford Co—Marchman Field | 7/4924 | 4/13/17 | RNAV (GPS) RWY 19, Amdt 1
22-Jun-17 | NC | Rutherfordton | Rutherford Co—Marchman Field | 7/4925 | 4/13/17 | RNAV (GPS) RWY 1, Amdt 2
22-Jun-17 | NC | Rutherfordton | Rutherford Co—Marchman Field | 7/4926 | 4/13/17 | LOC RWY 1, Amdt 3
22-Jun-17 | NH | Claremont | Claremont Muni | 7/5161 | 4/13/17 | RNAV (GPS) RWY 29, Orig-A
22-Jun-17 | PA | Danville | Danville | 7/5191 | 4/13/17 | RNAV (GPS) RWY 27, Orig
22-Jun-17 | PA | Danville | Danville | 7/5192 | 4/13/17 | RNAV (GPS) RWY 9, Orig
22-Jun-17 | TN | Millington | Charles W Baker | 7/5260 | 4/11/17 | RNAV (GPS) RWY 18, Orig
22-Jun-17 | TN | Millington | Charles W Baker | 7/5262 | 4/11/17 | RNAV (GPS) RWY 36, Orig
22-Jun-17 | TN | Hohenwald | John A Baker Fld | 7/5268 | 4/11/17 | RNAV (GPS) RWY 2, Amdt 1
22-Jun-17 | OK | Mc Alester | Mc Alester Rgnl | 7/5295 | 4/13/17 | VOR/DME RWY 20, Amdt 2F
22-Jun-17 | VT | Rutland | Rutland—Southern Vermont Rgnl | 7/5299 | 4/13/17 | RNAV (GPS) Y RWY 19, Amdt 2
22-Jun-17 | VT | Rutland | Rutland—Southern Vermont Rgnl | 7/5300 | 4/13/17 | ILS OR LOC/DME Y RWY 19, Orig
22-Jun-17 | VT | Rutland | Rutland—Southern Vermont Rgnl | 7/5301 | 4/13/17 | ILS OR LOC/DME Z RWY 19, Orig
22-Jun-17 | VT | Rutland | Rutland—Southern Vermont Rgnl | 7/5302 | 4/13/17 | RNAV (GPS) Z RWY 19, Orig
22-Jun-17 | NY | Syracuse | Syracuse Hancock Intl | 7/5308 | 4/11/17 | ILS OR LOC RWY 10, Amdt 13A
22-Jun-17 | NC | Edenton | Northeastern Rgnl | 7/6384 | 4/11/17 | RNAV (GPS) RWY 19, Amdt 2A
22-Jun-17 | PA | Monongahela | Rostraver | 7/6400 | 4/13/17 | RNAV (GPS) RWY 26, Orig-B
22-Jun-17 | PA | Monongahela | Rostraver | 7/6401 | 4/13/17 | RNAV (GPS) RWY 8, Amdt 1
22-Jun-17 | GA | Valdosta | Valdosta Rgnl | 7/6415 | 4/13/17 | RNAV (GPS) RWY 4, Amdt 1A
22-Jun-17 | VA | Orange | Orange County | 7/6485 | 4/26/17 | RNAV (GPS) RWY 8, Orig
22-Jun-17 | VA | Orange | Orange County | 7/6486 | 4/26/17 | RNAV (GPS) RWY 26, Orig
22-Jun-17 | TN | Lewisburg | Ellington | 7/6855 | 4/11/17 | RNAV (GPS) RWY 2, Amdt 1
22-Jun-17 | FL | Homestead | Homestead General Aviation | 7/7094 | 4/28/17 | Takeoff Minimums and Obstacle DP, Orig-A
22-Jun-17 | FL | Homestead | Homestead General Aviation | 7/7095 | 4/28/17 | RNAV (GPS) RWY 10, Orig
22-Jun-17 | FL | Homestead | Homestead General Aviation | 7/7096 | 4/28/17 | RNAV (GPS) RWY 28, Orig
22-Jun-17 | NY | Dansville | Dansville Muni | 7/7123 | 4/28/17 | Takeoff Minimums and Obstacle DP, Amdt 2
22-Jun-17 | IL | Monmouth | Monmouth Muni | 7/7242 | 4/28/17 | Takeoff Minimums and Obstacle DP, Amdt 2A
22-Jun-17 | NC | Maxton | Laurinburg-Maxton | 7/7550 | 4/13/17 | ILS OR LOC RWY 5, Amdt 2
22-Jun-17 | NC | Maxton | Laurinburg-Maxton | 7/7551 | 4/13/17 | RNAV (GPS) RWY 5, Amdt 1A
22-Jun-17 | KY | Glasgow | Glasgow Muni | 7/7554 | 4/13/17 | RNAV (GPS) RWY 8, Amdt 2
22-Jun-17 | TN | Greeneville | Greeneville-Greene County Muni | 7/7555 | 4/11/17 | RNAV (GPS) RWY 5, Orig
22-Jun-17 | TN | Greeneville | Greeneville-Greene County Muni | 7/7556 | 4/11/17 | NDB RWY 5, Amdt 5
22-Jun-17 | TN | Lewisburg | Ellington | 7/8083 | 4/11/17 | RNAV (GPS) RWY 20, Amdt 1
22-Jun-17 | NC | Williamston | Martin County | 7/8621 | 4/13/17 | RNAV (GPS) RWY 3, Amdt 1
22-Jun-17 | GA | Adel | Cook County | 7/8628 | 4/13/17 | RNAV (GPS) RWY 5, Amdt 1
22-Jun-17 | GA | Adel | Cook County | 7/8629 | 4/13/17 | RNAV (GPS) RWY 23, Amdt 1
22-Jun-17 | TN | Millington | Charles W Baker | 7/9621 | 4/11/17 | VOR/DME RWY 18, Amdt 2
22-Jun-17 | PA | Lebanon | Keller Brothers | 7/9993 | 4/13/17 | RNAV (GPS) RWY 7, Orig
22-Jun-17 | PA | Lebanon | Keller Brothers | 7/9994 | 4/13/17 | RNAV (GPS) RWY 25, Orig

[FR Doc. 2017-12463 Filed 6-19-17; 8:45 am]

BILLING CODE 4910-13-P